FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 18, 2003.

A. Federal Reserve Bank of Atlanta (Sue Costello, Vice President) 1000 Peachtree Street, N.E., Atlanta, Georgia 30303:

1. L. Jackson McConnell, Sr., Patricia McConnell, The L. Jackson McConnell, Jr. Family Trust, the L.Jackson McConnell Sr. Retained Annuity Trust, L. Jackson McConnell, Jr. as custodian for Lawson C.McConnell, L. Jackson McConnell, Jr. as custodian for Mary Margaret McConnell, all of Elberton, Georgia, The Kathleen L. Korotzer Family Trust, Kathleen L. Korotzer as custodian for Turner J. Korotzer, Kathleen L. Korotzer as custodian for Nicholas C. Korotzer, all of Walnut Creek, California, Alice M. Eberhardt, Linton W. Eberhardt, III, The Linton W. Eberhardt, IV Family Trust, the Laura Eberhardt Stille Family Trust, and the Alice M. Eberhardt Retained Annuity Trust, all of Royston, Georgia, to retain voting shares of Pinnacle Financial Corporation, Elberton, Georiga, and thereby indirectly retain voting shares of Pinnacle Bank, Elberton, Georgia.

Board of Governors of the Federal Reserve System, March 31, 2003.
Robert deV. Frierson,
Deputy Secretary of the Board.

[FR Doc. 03-8172 Filed 4-3-03; 8:45 am]

BILLING CODE 6210-01-S